DEPARTMENT OF ENERGY

Office of the Secretary

Decision To Compete Management and Operating Contracts for Los Alamos National Laboratory, Ames National Laboratory, Lawrence Berkeley National Laboratory, Argonne National Laboratory, and Lawrence Livermore National Laboratory

Section 301(a) of the Energy and Water Development Appropriations Act, 2004, Public Law 108-137, provides that none of the funds appropriated for fiscal year 2004 or any previous fiscal year may be used for a “noncompetitive management and operating contract” unless the Secretary of Energy, within 60 days of enactment of the Act, publishes in the Federal Register and submits to the Appropriation Committees of the House of Representatives and the Senate “a written notification, with respect to each such contract, of the Secretary's decision to use competitive procedures for the award of the contract, or to not renew the contract, once the term of the contract expires.” Pursuant to section 301(a)(3), this requirement does not apply to “an extension for up to 2 years of a noncompetitive management and operating contract, if the extension is for purposes of allowing time to award competitively a new contract, to provide continuity of service between contracts, or to complete a contract that will not be renewed.”

Paragraph (b)(1) of section 301 identifies the noncompetitive management and operating contracts subject to Secretarial review and decision as the contracts for the management and operation of Ames Laboratory, Argonne National Laboratory, Lawrence Berkeley National Laboratory, Lawrence Livermore National Laboratory, and Los Alamos National Laboratory. For purposes of section 301, paragraph (b)(2) of section 301 provides that the term “competitive procedures” has “the meaning provided in section 4 of the Office of Federal Procurement Policy Act (41 U.S.C. 403) and includes the procedures described in section 303 of the Federal Property and Administrative Services Act of 1949 (41 U.S.C. 253) other than a procedure that solicits a proposal from only one source.”

Public Law 108-137 was enacted on December 1, 2003. Well before that time, on April 30, 2003, I announced my decision to use competitive procedures to award the Los Alamos National Laboratory management and operating contract when its term expires. In addition, I hereby announce my decision to use competitive procedures described in section 301 to award the Ames Laboratory, Argonne National Laboratory, Lawrence Berkeley National Laboratory, and Lawrence Livermore National Laboratory management and operating contracts. Decisions concerning the precise timing and form that these competitions will take are still under consideration and will be made in accordance with applicable law and regulation.

Dated: January 21, 2004.
Spencer Abraham,
Secretary of Energy.

[FR Doc. 04-1655 Filed 1-26-04; 8:45 am]

BILLING CODE 6450-01-P